DEPARTMENT OF EDUCATION

RIN 1820-ZA13

Access to Telework Fund

AGENCY: Office of Special Education and Rehabilitative Services, Department of Education.

ACTION: Notice of proposed priority and proposed application and project requirements.

SUMMARY: The Assistant Secretary for Special Education and Rehabilitative Services proposes a priority and application and project requirements for an Access to Telework Fund (ATF). The Assistant Secretary may use this priority and the requirements for competitions in fiscal year (FY) 2002 and later years. We take this action to expand employment opportunities for individuals with disabilities by providing greater access to computers and other equipment that will allow them to work from home if they choose. Grants would be made to States, including the District of Columbia, the Commonwealth of Puerto Rico, the United States Virgin Islands, Guam, American Samoa, and the Commonwealth of the Northern Mariana Islands, and American Indian tribal governments to enable them to provide loans to individuals with disabilities to purchase computers and other equipment for this purpose.

DATES: We must receive your comments on or before January 27, 2003.

ADDRESSES: Address all comments about this proposed priority and proposed application and project requirements to Pamela Martin, U.S. Department of Education, 400 Maryland Avenue, SW., room 3314, Switzer Building, Washington, DC 20202-2645. If you prefer to send your comments through the Internet, use one of the following addresses: Pamela.Martin@ed.gov or Gayle.Palumbo@ed.gov.

You must include the term “Access to Telework Fund” in the subject line of your electronic message.

FOR FURTHER INFORMATION CONTACT: Pamela Martin. Telephone (202) 205-8494 or via Internet: Pamela.Martin@ed.gov.

Or Gayle Palumbo, U.S. Department of Education, Rehabilitation Services Administration, 50 United Nations Plaza, room 215, San Francisco, CA 94102. Telephone (415) 556-4071 or via Internet: Gayle.Palumbo@ed.gov.

If you use a telecommunications device for the deaf (TDD), you may call the TDD number at (202) 205-4475.

Individuals with disabilities may obtain this document in an alternative format (e.g., Braille, large print, or computer diskette) on request to one of the contact persons listed under FOR FURTHER INFORMATION CONTACT.

SUPPLEMENTARY INFORMATION:

Invitation to Comment

We invite you to submit comments regarding this proposed priority and the proposed application and project requirements. To ensure that your comments have maximum effect in developing the notice of final priority and final application and project requirements, we urge you to be specific about any recommended changes. We are particularly interested in receiving comments on the following topics:

1. Eligible applicants for the Access to Telework Fund, including who may apply for an ATF grant and the implications of allowing more than one agency within a State to receive a grant.

2. The authorized activities under this program and appropriate uses of grant funds.

3. The definition of “telework,” as it appears in this priority.

4. Requirements, including reporting requirements, and procedures considered essential in the establishment of this loan program and which should be included under “Application and Project Requirements.” For example, comments are welcome on more specific outcome measures needed to evaluate the impact of the program.

We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this proposed priority in room 3038, Switzer Building, 330 C Street, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact one of the individuals listed under FOR FURTHER INFORMATION CONTACT.

We will announce the final priority and final application and project requirements in a notice in the Federal Register. We will determine the final priority and final application and project requirements after considering responses to this notice and other information available to the Department. This notice does not preclude us from proposing or funding additional priorities, subject to meeting applicable rulemaking requirements.

Note: This notice does not solicit applications. In any year in which we choose to use this proposed priority and proposed application and project requirements, we invite applications through a notice in the Federal Register.

Priority

Access to Telework Fund

The proposed priority would implement the Access to Telework Fund (ATF) proposed by the President in his New Freedom Initiative. This new program would enable States, including the District of Columbia, the Commonwealth of Puerto Rico, the United States Virgin Islands, Guam, American Samoa, and the Commonwealth of the Northern Mariana Islands, and American Indian tribes to provide loans to individuals with disabilities to purchase computers and other equipment so they can work from home.

The ATF will be conducted under section 303(b) of the Rehabilitation Act of 1973, as amended (Act). The proposed priority supports section 303(b) by furthering the purposes of the Act, specifically by empowering individuals with disabilities to maximize employment, economic self-sufficiency, independence, and inclusion and integration into society.

Background: In February of 2001, the President introduced his New Freedom Initiative to help Americans with disabilities by increasing access to assistive technologies, expanding educational opportunities, increasing the ability of Americans with disabilities to integrate into the workforce, and promoting increased access into daily community life. As a part of this initiative, the ATF was proposed to increase the participation of Americans with disabilities in the workforce by expanding telework opportunities.

We anticipate that many employers will provide employees with the equipment they need to telework. We wish to emphasize that this program does not relieve covered employers from their obligations under the Americans with Disabilities Act (ADA). However, we realize that some individuals with disabilities need an alternative mechanism to access computers and other needed equipment not provided by an employer to enable them to work from home. The Access to Telework Fund will provide that alternative mechanism.

The employment rate for people with disabilities is unacceptably low and for individuals with significant disabilities it is even lower. Yet most people with disabilities who can work, but do not have jobs, say that they would like to work and contribute to the country's economy. However, individuals with disabilities experience many barriers to employment, including inadequate transportation, fatigue, inaccessible work environments, and the need for personal assistance. For many, these barriers can be reduced or eliminated through the availability of viable alternatives such as telework and other alternative work options.

Telework and other alternative work options, such as home-based self-employment, are rapidly expanding employment options in the emerging information age. These work options provide employment opportunities to many Americans who want or need a flexible work environment. Americans with disabilities should have the same access to pursue employment opportunities in traditional and alternative work settings as other members of society.

Promoting telework options may also bring more individuals with disabilities into the labor market. Many individuals with disabilities, and individuals with chronic illnesses, may not be aware of how new technologies can accommodate flexible work schedules and expand employment options. Becoming more aware of what is available, and that options do exist, may open more doors to employment. The availability of telework and other flexible work arrangements for people with disabilities can reduce or eliminate barriers to employment. Some employees may want or need to telework almost exclusively, while others may choose to work from home only if the need arises. These alternatives can mean the difference between being able to work and not being able to work.

Computer technology and the Internet have tremendous potential to broaden the lives and increase the independence and employment of many people with disabilities. However, the computer and Internet revolution has not reached as many people with disabilities as the population without disabilities. Only 25 percent of people with disabilities own a computer, compared with 66 percent of U.S. adults without disabilities, and only 20 percent of people with disabilities have access to the Internet, compared with 40 percent of U.S. adults.

The primary barrier to wider access to computer equipment is cost. Computers with adaptive technology (e.g., screen readers, voice synthesizers, adaptive keyboards, and specialized software) can cost as much as $20,000. The median income of Americans with disabilities is far below the national average. Thus, for many individuals with disabilities, owning a computer with adaptive technology is prohibitively expensive.

It is often very difficult for individuals with disabilities to save enough money to purchase computer or other necessary office equipment. Cash benefit programs do not provide sufficient funds for both living expenses and savings, and income support programs limit the amount of assets a person can accumulate. For a number of reasons, people with disabilities often find it difficult to access loans as a method to purchase necessary equipment. For example, they may have insufficient cash or collateral, lack an appropriate credit rating, or face attitudinal barriers.

Proposed Priority: Under 34 CFR 75.105 (c)(3) we propose to give an absolute preference to applications that meet the following priority. Under an absolute priority we consider only applications that meet the priority.

This priority supports grants to States for the establishment of an Access to Telework Fund to provide loans to individuals with disabilities for the purpose of purchasing computers and other equipment, including adaptive equipment, so that the individuals with disabilities can telework from home.

The term “telework” typically encompasses work that can be performed effectively from home or from other designated sites away from the office, such as work on the road or at a telework center. For the purposes of this program, telework is limited to work that can be performed effectively from home and does not include work from the road or a telework center. Successful applicants will develop programs that will enable them to provide loans, for the purchase of computers and other equipment, to individuals with disabilities who want to work at home as an employee, a contractor, or work in home-based self-employment on a full- or part-time basis. Individuals with disabilities who are employees and work from home for part of the work week are eligible for loans for equipment they need while working at home.

Consistent with legislative history, the Department intends to give grantees the flexibility to design and implement the Access to Telework program in a manner that will encourage individuals with disabilities to apply for loans.

Eligible Applicants: State agencies from the 50 States, the District of Columbia, the Commonwealth of Puerto Rico, the United States Virgin Islands, Guam, American Samoa, and the Commonwealth of the Northern Mariana Islands, are eligible to apply for ATF grants. These agencies may include, but are not limited to, State vocational rehabilitation agencies; State employment agencies; State agencies currently administering programs under the Assistive Technology Act, including the Assistive Technology State Grant Program or the Alternative Financing Program; Governors' offices; or other appropriate State agencies. Applicants may also include consortia of State agencies, with one agency acting as the official applicant for the grant.

Governing bodies of American Indian tribes located on Federal and State reservations (and consortia of those governing bodies) consistent with section 7(19)(B) of the Act are also eligible to apply for ATF grants.

More than one agency within a State may apply for a grant, but there must be coordination and communication between grantees in any single State.

Application and Project Requirements

In accordance with the application and project requirements that follow, applicants under this competition must successfully demonstrate that they will:

A. Achieve the program's short-term goal of increasing access to technology for disabled individuals through the provision of loans that must be used to purchase computers and other equipment, including adaptive equipment, so that individuals with disabilities can telework from home; and

B. Achieve the program's long-term goal of increasing employment opportunities and competitive employment outcomes for individuals with disabilities.

Application, matching, reporting, and other project requirements are as follows:

A. General Requirements for Applicants under this Competition

(1) Each applicant under the ATF competition must provide information, in its application, on the manner in which its proposed loan program will expand employment opportunities for individuals with disabilities by including information on the expected impact and outcomes of the project. More specifically, applicants must project a goal of how many people could achieve employment outcomes with the level of grant funding being requested. Applicants also must be specific about what data they will collect in order to measure project outcomes against the goal. Additional outcome measures, such as increases in salary or customer satisfaction levels, must also be included to support the application.

(2) Each applicant is allowed flexibility in the development of its proposed loan program under the Access to Telework Fund. However, the proposed loan procedures and criteria must be explained in the application for funding. At a minimum, the application must contain the following:

(a) Procedures that provide for the timely review and processing of loan applications and that include methods and processes that reduce paperwork and duplication of effort, particularly as they relate to the needs and eligibility of individuals with disabilities to receive loans from the project, including—

(i) Loan application procedures;

(ii) The criteria whereby an individual with a disability may qualify for a loan, including criteria for determining credit worthiness; and

(iii) If proposed, the description of any appeal process for applicants who are denied loans.

(b) The type or types of alternative financing mechanisms the applicant is proposing to provide as part of the project and in conjunction with contracting organizations, if any, including—

(i) A low-interest loan program;

(ii) An interest buy-down program;

(iii) A revolving fund;

(iv) A loan guarantee or insurance program; and

(v) Any other mechanism that meets the requirements and intent of this program and is approved by the Secretary.

(c) Policies, procedures, and specifications related to the awarding and collection of loans, including—

(i) Minimum and maximum loan amounts;

(ii) Criteria for determining the amount of a loan, the interest on loans, and how interest will be determined;

(iii) Loan repayment and collection procedures, including procedures for handling situations in which individuals are delinquent in repayment or default on loans, and the consequences of defaulting on a loan; and

(iv) If appropriate, possibilities for deferral of repayment and loan forgiveness under specified circumstances.

(d) Outreach and marketing strategies the applicant proposes to use to inform individuals with disabilities and other appropriate target groups about the program.

(3) Each applicant must provide information, in its application, on the procedures to be used to ensure the individuals with disabilities who receive loans under this program intend to work from home.

(4) If an applicant chooses to enter into contracts with private financial institutions, banks, credit unions, other State agencies, or community-based organizations to administer the Access to Telework Fund, each contract must include—

(a) A provision requiring that the program funds, including the Federal and non-Federal shares of the cost of the program, be administered in a manner consistent with the requirements of this program; and

(b) Provisions for contract oversight and evaluation in order to protect Federal financial interests.

(5) Each applicant must provide a description of each organization, if any, that it intends to use by contract or other arrangements to carry out the Access to Telework Fund. The role and responsibilities of each organization must also be included.

B. Application Assurances

Each applicant must provide the following assurances in its application:

(1) ATF funds will not be used as a substitute for employer responsibilities under the ADA or to fulfill responsibilities of other parties under the ADA.

(2) All Federal and matching funds that support the Access to Telework Fund, including all principal and interest repaid during the life of the program, will be placed in a permanent separate account and identified and accounted for separately from any other funds.

(3) The funds specified in paragraph (B)(2) will be invested in low risk securities in which a regulated insurance company may invest under the laws of the State.

(4) Funds comprised of the principal and interest from the account described in paragraph (B)(2) and any interest or investment income that accrues on or derives from the investments noted in paragraph (B)(3) must also be available to support the Access to Telework Fund.

(5) ATF funds will be used to supplement and not supplant Federal (funding other than through this program), State, and local public funds used to support similar services to individuals with disabilities.

(6) The ATF program will be continued on a permanent basis or for as long as funding exists to support such a program, including funding identified in paragraphs (B)(2) and (B)(3).

(7) The grantee will administer the funds with the same judgment and care that a person of prudence, discretion, and intelligence would exercise in the management of his or her own financial affairs.

(8) Materials used by potential loan applicants to obtain information on loan availability, eligibility requirements, and procedures for applying for a loan will be provided in accessible formats.

(9) The project will coordinate and share information and resources with other ATF projects within the State, as well as with the alternative financing programs such as those funded under titles I and III of the Assistive Technology Act.

(10) Policies and procedures will be established to ensure that access to the ATF will be given to consumers regardless of type of disability, age, income level, or type of computers and other equipment for which financing is requested through the program.

C. Matching Requirements and Limitations on Indirect Costs

(1) The Federal share of the cost of the ATF must not be more than 90 percent. Therefore, each applicant must demonstrate it will provide at least 10 percent of the total program cost in non-Federal funds.

(2) The grantee must provide the non-Federal share of the cost of the ATF in cash from State, tribal, local, or private sources.

(3) The non-Federal match requirement must be met within the 12-month project period.

(4) Federal funds may be drawn down and expended before or after the non-Federal match requirement is met, as long as the match is provided within the 12-month project period.

(5) Each grantee must limit indirect costs charged to the Federal grant to 10 percent of the total direct costs.

D. Reporting Requirements

Through the analysis of data collected under the following reporting requirements, the Secretary will assess grantee success in meeting the program's overall goals of—

(1) Increasing access to technology for disabled individuals; and

(2) Increasing employment opportunities and competitive employment outcomes for individuals with disabilities.

Performance measures used to determine whether the goals have been accomplished will include— numbers of loans made to individuals with disabilities; numbers of individuals who obtained telework employment as a result of ATF loans; and ATF default rates. Grantee evaluation systems must be capable of collecting and analyzing this and the following additional required information.

Each grantee must collect and submit to the Secretary the following information within 90 calendar days after the end of the project period and annually thereafter, for as long as an ATF program identified in paragraphs (B)(2) and (B)(3), Application Assurances, is in operation:

(1) The total financial contribution to the project, including the Federal share and non-Federal matching contributions, and the source of the non-Federal share.

(2) The amount of ATF funding requested by and provided to each individual consumer applicant for a loan.

(3) The total number of loans requested by and made to individuals with disabilities and the total number of loans in each of the types of alternative financing mechanisms listed in paragraph (A)(2)(b).

(4) The number of loan applicants denied and the reasons for denial.

(5) The amount and terms of each loan provided, including the interest rate.

(6) The types of equipment financed through the project, including the total number of each type of equipment financed.

(7) Information on the characteristics of each individual with a disability served under the project, including demographic information such as age and ethnicity; type of disability; employment status at the time of loan application; whether the consumer tried to secure financial support from other sources and, if so, a description of those sources; whether the individual consumer went to work, if he or she is teleworking for some part of his or her job, and the occupation in which the individual is working; the hourly salary the individual consumer is earning and a comparison of the consumer's salary with that reported in the previous annual ATF report; and information on whether each individual has repaid his or her loan, is in repayment status, is delinquent on repayments, or has defaulted on the loan.

(8) A breakdown of expenditures from the ATF program, including information on the amount paid in direct loans to individuals with disabilities, the amount devoted to administrative costs of the program, and the nature of those administrative costs.

(9) The default rate under the program.

Executive Order 12866

This notice of proposed priority and proposed application and project requirements has been reviewed in accordance with Executive Order 12866. Under the terms of the order, we have assessed the potential costs and benefits of this regulatory action.

The potential costs associated with this notice are those resulting from requirements we have determined as necessary for administering this program effectively and efficiently.

In assessing the potential costs and benefits—both quantitative and qualitative—of this notice, we have determined that the benefits of the proposed priority and proposed application and project requirements justify the costs.

We have also determined that this regulatory action does not unduly interfere with State, local, and tribal governments in the exercise of their governmental functions.

Summary of potential costs and benefits: The Assistant Secretary has determined that the cost to the Federal Government associated with this program will not exceed $20 million in FY 2002 or FY 2003. In addition, grant recipients (State agencies from the 50 States, the District of Columbia, the Commonwealth of Puerto Rico, the United States Virgin Islands, Guam, American Samoa, the Commonwealth of the Northern Mariana Islands, and governing bodies of American Indian tribes located on Federal and State reservations) must contribute a required non-Federal match of at least 10 percent of the total program cost. No other costs will result from the announcement of this proposed priority and proposed application and project requirements.

The benefit of this proposed priority and proposed application and project requirements will be the establishment of the Access to Telework Fund proposed by the President in the New Freedom Initiative, which calls for the provision of loans to individuals with disabilities for the purpose of purchasing computers and other equipment, including adaptive equipment, so that individuals with disabilities can telework from home.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may review this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

(Catalog of Federal Domestic Assistance Number 84.235, Special Demonstration Programs, Access to Telework Fund)

Program Authority: 29 U.S.C. 773(b).

Robert H. Pasternack,
Assistant Secretary for Special Education and Rehabilitative Services.

[FR Doc. 02-32574 Filed 12-24-02; 8:45 am]

BILLING CODE 4000-01-P